DEPARTMENT OF ENERGY

Federal Energy Regulatory Commission

Notice of Application Ready for Environmental Analysis and Soliciting Comments, Recommendations, Terms and Conditions, and Prescriptions

January 26, 2006.

Take notice that the following hydroelectric application has been filed with the Commission and is available for public inspection.

a. Type of Application: Major License.

b. Project No.: 11945-001.

c. Date Filed: June 30, 2004.

d. Applicant: Symbiotics, LLC.

e. Name of Project: Dorena Lake Dam Hydroelectric Project.

f. Location: On the Row River, near the Town of Cottage Grove, Lane County, Oregon. The project would occupy less than 1 acre of Federal lands administered by the U.S. Army Corps of Engineers.

g. Filed Pursuant to: Federal Power Act 16 U.S.C. 791(a)-825(r).

h. Applicant Contact: Brent L. Smith, Symbiotics, LLC, P.O. Box 535, Rigby, Idaho 83442; telephone (208) 745-0834 or by e-mail at bsmith@nwpwrservices.com.

i. FERC Contact: Dianne Rodman; telephone (202) 502-6077 or by e-mail at dianne.rodman@ferc.gov.

j. Deadline for filing comments, recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted and is now ready for environmental analysis.

l. The proposed project would utilize the U.S. Army Corps of Engineers' existing Dorena Lake dam and reservoir, and would consist of the following facilities: (1) A 9-foot-diameter steel pipe, about 350 feet long, extending from the reservoir through the north dam abutment; (2) a new powerhouse, near the existing spillway stilling basin 250 feet downstream from the concrete section of the dam, having a total installed capacity of 8,300 kilowatts; (3) a new concrete-lined channel discharging flows into the river channel immediately below the existing stilling basin; (4) a new valve house near the existing stilling basin; (5) a new 15-kilovolt underground transmission line, about 500 feet long; and (6) appurtenant facilities. The average annual generation is estimated to be 17.5 gigawatthours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

Magalie R. Salas,
Secretary.

[FR Doc. E6-1451 Filed 2-2-06; 8:45 am]

BILLING CODE 6717-01-P